FEDERAL COMMUNICATIONS COMMISSION

47 CFR Part 73

[MB Docket No. 19-57, RM-11827; DA 19-492]

Radio Broadcasting Services; Caliente, Nevada

AGENCY: Federal Communications Commission.

ACTION: Final rule.

SUMMARY: At the request of SSR Communications Inc., the Audio Division amends the FM Table of Allotments, by allotting Channel 264A at Caliente, Nevada, as the first local service. A staff engineering analysis indicates that Channel 264A can be allotted to Caliente consistent with the minimum distance separation requirements of the Commission's rules without a site restriction. The reference coordinates are 37-36-02 NL and 114-30-32 WL.

DATES: Effective September 27, 2019.

FOR FURTHER INFORMATION CONTACT: Rolanda F. Smith, Media Bureau, (202) 418-2700.

SUPPLEMENTARY INFORMATION: This is a synopsis of the Commission's Report and Order, MB Docket No. 19-57, adopted May 30, 2019, and released May 31, 2019. The full text of this Commission decision is available for inspection and copying during normal business hours in the FCC's Reference Information Center at Portals II, CY-A257, 445 12th Street SW, Washington, DC 20554. The full text is also available online at http://apps.fcc.gov/ecfs/. This document does not contain information collection requirements subject to the Paperwork Reduction Act of 1995, Public Law 104-13. The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336 and 339.

§ 73.202 [Amended]

2. In § 73.202, the table in paragraph (b) is amended under Nevada by adding an entry for “Caliente” in alphabetical order to read as follows:

§ 73.202 Table of Allotments.

* * * * *

(b) Table of FM Allotments.

Table 1 to Paragraph (b)—[U.S. States]
Channel No.
* * * * *
Nevada
* * * * *
Caliente | 264A
* * * * *

* * * * *

[FR Doc. 2019-20734 Filed 9-26-19; 8:45 am]

BILLING CODE 6712-01-P